DEPARTMENT OF THE INTERIOR

Bureau of Land Management

[NV-030-1610-DO]

Revised Notice of Intent To Prepare an Amendment to the Carson City Field Office Consolidated Resource Management Plan, Known as the Churchill County Plan, and Associated Environmental Impact Statement

AGENCY: Bureau of Land Management, Interior.

ACTION: Revised Notice of Intent (NOI) to prepare an amendment to the Bureau of Land Management (BLM) Carson City Field Office (CCFO) Consolidated Resource Management Plan (CRMP), known as the Churchill County Plan, and associated Environmental Impact Statement (EIS).

SUMMARY: This document provides notice that the BLM has revised the NOI, published in the Federal Register on July 22, 2003, to prepare an amendment to the CRMP with an associated EIS for the CCFO to address energy resources, fire management, off-highway vehicle (OHV) use and designations, and Churchill County open-space needs. The NOI has been corrected to change the United States Navy's status in the process from a joint interest in the plan amendment to a cooperating agency for the EIS. The Navy's intent to revise its Integrated Natural Resources Management Plan (INRMP) has been postponed to a later date. In addition, the plan amendment now includes an analysis of a proposal to develop a geothermal power plant east of Fallon, NV. The planning area is primarily limited to Churchill County, Nevada, for all issues with the exception of energy resources, which will be addressed for all lands managed by the CCFO. The BLM will continue to work collaboratively and cooperatively with interested parties to identify management decisions that may address local, regional, and national needs and concerns.

EFFECTIVE DATES: This notice reinitiates the public scoping process. Comments can be submitted in writing to the address listed below, and will be accepted throughout the preparation of the Draft CRMP/EIS. All public meetings will be announced through the local news media, newsletters, and scoping documents at least 15 days prior to the event. At a minimum, another public meeting will be held in Fallon, Nevada. Formal opportunities for public participation also will be provided through comment on the draft and final documents.

ADDRESSES: Written comments should be sent to BLM Carson City Field Office, 5665 Morgan Mill Road, Carson City, NV 89701; Fax (775) 885-6147. Comments, including names and addresses of respondents, will be available for public review at the above address during regular business hours (7:30 a.m.-5 p.m.), Monday through Friday, except holidays, and may be published as part of the EIS. Individual respondents may request confidentiality. If you wish to withhold your name or street address from public review or from disclosure under the Freedom of Information Act, you must state this prominently at the beginning of your written comment. BLM will not consider anonymous comments. Such requests will be honored to the extent allowed by law. All submissions from organizations or businesses, and from individuals identifying themselves as representatives or officials of organizations or businesses, will be made available for public inspection in their entirety.

FOR FURTHER INFORMATION CONTACT: For additional information, write to the above address or call Gary Ryan (Project Manager) at (775) 426-4011 or Terri Knutson (BLM Environmental Planner) at (775) 885-6156.

SUPPLEMENTARY INFORMATION: On July 22, 2003 the BLM published the Notice of Intent To Prepare a Combined Amendment to the Carson City Field Office Consolidated Resource Management Plan and a Revision to the Naval Air Station Fallon Integrated Natural Resources Management Plan, Known as the Churchill County Plan, and Associated Environmental Impact Statement in the Federal Register (Vol. 68, No. 140, Pg. 43368-43369). Through the scoping process and after several meetings with planning partners and the Navy, the Navy determined that revision of its INRMP would not be a part of this plan amendment. In addition, the BLM received a proposal from Nevada Geothermal Specialists LLC (NGS) for the development of a geothermal power plant located approximately ten miles east of Fallon, NV. In the interest of cost and time savings, BLM determined that the analysis of the power plant will be included in the Churchill County Plan and EIS.

Dated: February 6, 2004.
Elayn Briggs,
Associate Field Manager, Carson City Field Office.

[FR Doc. 04-7001 Filed 3-29-04; 8:45 am]

BILLING CODE 4310-HC-P